DEPARTMENT OF AGRICULTURE

National Agricultural Statistics Service

Notice of Intent To Request an Early Revision and Extension of a Currently Approved Information Collection

AGENCY: National Agricultural Statistics Service, USDA.

ACTION: Notice and request for comments.

SUMMARY: In accordance with the Paperwork Reduction Act of 1995 this notice announces the intention of the National Agricultural Statistics Service (NASS) to request revision and extension of a currently approved information collection, the Bee and Honey Survey. Revision to burden hours will be needed due to a change in the size of the target population, sample design, and the expansion of the questionnaire to accommodate changes to the scope of the survey to include some economic questions.

DATES: Comments on this notice must be received by October 23, 2015 to be assured of consideration.

ADDRESSES: You may submit comments, identified by docket number 0535-0153, by any of the following methods:

• Email: ombofficer@nass.usda.gov. Include docket number above in the subject line of the message.

• Fax: (202) 720-6396.

• Mail: Mail any paper, disk, or CD-ROM submissions to: David Hancock, NASS Clearance Officer, U.S. Department of Agriculture, Room 5336 South Building, 1400 Independence Avenue SW., Washington, DC 20250-2024.

• Hand Delivery/Courier: Hand deliver to: David Hancock, NASS Clearance Officer, U.S. Department of Agriculture, Room 5336 South Building, 1400 Independence Avenue SW., Washington, DC 20250-2024.

FOR FURTHER INFORMATION CONTACT: R. Renee Picanso, Associate Administrator, National Agricultural Statistics Service, U.S. Department of Agriculture, (202) 720-4333. Copies of this information collection and related instructions can be obtained without charge from David Hancock, NASS-OMB Clearance Officer, at (202) 690-2388 or at ombofficer@nass.usda.gov.

SUPPLEMENTARY INFORMATION:

Title: Bee and Honey Survey.

OMB Control Number: 0535-0153.

Expiration Date of Approval: June 30, 2016.

Type of Request: Intent to revise and extend a currently approved information collection for a period of three years.

Abstract: The primary objective of the National Agricultural Statistics Service (NASS) is to prepare and issue state and national estimates of crop and livestock production, livestock products, prices, and disposition; as well as economic statistics, environmental statistics related to agriculture, and also to conduct the Census of Agriculture.This request for renewal of the Bee and Honey Survey (0535-0153) will expand the historic collection to collect additional data to respond to the increased demand for data relating to honey bees.

As pollinators, honey bees are vital to the agricultural industry for producing food for the world's population. Ad hoc surveys showed a dramatic rise in the number of disappearances of honey bee colonies in North America in late 2006; disappearances ranged from 10-15 percent annual colony loss in some areas to greater than 30 percent in other areas. Often called Colony Collapse Disorder (CCD), the condition occurs when worker bees from a beehive or a European honey bee colony abruptly disappear, with minimal mortality evident near the hive and an intact queen and food supply readily available. The cost for maintaining and replenishing of honey bee colonies is exacerbated in a climate of higher than expected losses. Further data is needed to accurately describe the costs associated with pest/disease control, wintering fees, and replacement worker and queen bees. The USDA and the Environmental Protection Agency (EPA), in consultation with other relevant Federal partners, are scaling up efforts to address the decline of honey bee health with a goal of ensuring the recovery of this critical subset of pollinators. NASS supports the Pollinator Research Action Plan, published May 19, 2015, which emphasizes the importance of coordinated action to identify the extent and causal factors in honey bee mortality.

NASS will collect Colony Loss data under the OMB approval number 0535-0255. Under the expanded Bee and Honey Survey (0535-0153), NASS will collect information on the number of colonies, honey production, stocks, prices, and basic economic data from beekeepers in all 50 States. Findings from the expanded Bee and Honey Survey can be paired with results from the Colony Loss program to more wholly describe the economics of beekeeping.

The survey will use two questionnaire versions. Operations with five or more colonies will receive the expanded bee and honey questionnaire and operations with less than five colonies will receive a shorter version of the questionnaire. Collecting data from operations with less than five colonies will help better compare their experiences to larger operations. These surveys will provide data needed by the U.S. Department of Agriculture and other government agencies to administer programs. State universities and agriculture departments also use the enhanced data from this survey.

Authority: These data will be collected under the authority of 7 U.S.C. 2204(a). Individually identifiable data collected under this authority are governed by Section 1770 of the Food Security Act of 1985 as amended, 7 U.S.C. 2276, which requires USDA to afford strict confidentiality to non-aggregated data provided by respondents. This Notice is submitted in accordance with the Paperwork Reduction Act of 1995, Public Law 104-13 (44 U.S.C. 3501, et seq.), and Office of Management and Budget regulations at 5 CFR part 1320.

NASS also complies with OMB Implementation Guidance, “Implementation Guidance for Title V of the E-Government Act, Confidential Information Protection and Statistical Efficiency Act of 2002 (CIPSEA),” Federal Register, Vol. 72, No. 115, June 15, 2007, p. 33362.

Estimate of Burden: Public reporting burden for this collection of information is estimated to average 20 minutes per response for operations with five or more colonies. Operations with less than five colonies will receive the shorter questionnaire which is estimated to average 10 minutes per response. Publicity materials and instruction sheets will account for 5 minutes of additional burden per respondent. Respondents who refuse to complete a survey will be allotted 2 minutes of burden per attempt to collect the data.

Respondents: Farmers.

Estimated Number of Respondents: 31,500.

Estimated Total Annual Burden on Respondents: With an estimated response rate of approximately 80%, we estimate the total burden to be approximately 9,000 hours.

Comments: Comments are invited on: (a) Whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, through the use of appropriate automated, electronic, mechanical, technological or other forms of information technology collection methods.

All responses to this notice will become a matter of public record and be summarized in the request for OMB approval.

Signed at Washington, DC, August 13, 2015.
R. Renee Picanso,
Associate Administrator.

[FR Doc. 2015-20845 Filed 8-21-15; 8:45 am]

BILLING CODE 3410-20-P